DEPARTMENT OF TRANSPORTATION

Federal Aviation Administration

[Summary Notice No. PE-2000-38]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before September 4, 2000.

ADDRESSES: Send comments on any petition in triplicate to Federal Aviation Administration, Office of the Chief Counsel, Attn: Rule Docket (AGC-200), Petition Docket No. __, 800 Independence Avenue SW, Washington, DC 20591.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack, (202) 267-7271; Forest Rawls, (202) 267-8033; or Vanessa Wilkins, (202) 267-8029, Office of Rulemaking (ARM-1), Federal Aviation Administration, 800 Independence Avenue SW, Washington, DC 20591.

This notice is published pursuant to paragraphs (c), (e), and (g) of § 11.27 of Part 11 of the Federal Aviation Regulations (14 CFR Part 11).

Issued in Washington, DC, on August 8, 2000.
Donald P. Bryne,
Assistant Chief Counsel for Regulations.

Dispositions of Petitions

Docket No.: 30022.

Petitioner: Midway Airlines.

Section of the FAR Affected: 14 CFR §§ 121.314(c) and 25.858.

Description of Relief Sought/Disposition: To permit four Fokker Model F28-0100 airplanes to operate from March 20, 2001 until no later than June 30, 2001 without being fitted with fire suppression equipment.

Denial, 07/25/00, Exemption No. 7284.

Docket No.: 29981.

Petitioner: Delta Air Lines, Inc.

Section of the FAR Affected: 14 CFR §§ 121.314(c), 25.857(c) and 25.858.

Description of Relief Sought/Disposition: To permit nine Model L-1011 airplanes to operate from March 20, 2001 until September 30, 2001 without being fitted with fire suppression equipment.

Denial, 07/25/00, Exemption No. 7283.

Docket No.: Hawaiian Airlines, Inc.

Petitioner: 29941.

Section of the FAR Affected: 14 CFR §§ 121.314, 25.857(c) and 25.858.

Description of Relief Sought/Disposition: To permit one Model DC10-10 to operate from March 20, 2001 until May 15, 2001 without being fitted with fire suppression equipment.

Denial, 07/25/00, Exemption No. 7282.

Docket No.: 30054.

Petitioner: DalFort Aerospace, L.P.

Section of the FAR Affected: 14 CFR § 145.45(f).

Description of Relief Sought/Disposition: To permit DalFort to make its Inspection Procedures Manual (IPM) available electronically to its supervisory, inspection, and other personnel, rather than give a paper copy of the IPM to each of its supervisory and inspection personnel.

Grant, 07/28/00, Exemption No. 7292.

Docket No.: 26656.

Petitioner: Missouri Department of Transportation.

Section of the FAR Affected: 14 CFR § 156.5(b).

Description of Relief Sought/Disposition: To permit MoDOT to use up to $75,000 of Airport Improvement Program (AIP) block grant funds for program and administrative costs during fiscal years 1999 and 2000.

Grant, 07/26/00, Exemption No. 7286.

[FR Doc. 00-20455 Filed 8-10-00; 8:45 am]

BILLING CODE 4910-13-M